FEDERAL ELECTION COMMISSION

[Notice 2001-9]

Voluntary Standards for Computerized Voting Systems

AGENCY: Federal Election Commission.

ACTION: Notice with request for comments.

SUMMARY: The Federal Election Commission (the “FEC”) requests comments on proposed revisions to the 1990 national voluntary performance standards for computerized voting systems. Please note that the draft revised Standards do not represent a final decision by the Commission, nor do they include proposed revised test standards. The FEC will publish a notice when the proposed revised test standards are available for comment, and another notice when the final revised performance and test standards are issued. Note also that the text of the final documents will not become part of the Code of Federal Regulations because they are intended only as guidelines for States and voting system vendors. States may mandate the specifications and procedures through their own statutes, regulations, or administrative rules. Voting system vendors may voluntarily adhere to the Standards to ensure the reliability, accuracy, and integrity of their products. Further information is provided in the SUPPLEMENTARY INFORMATION that follows.

DATES: Comments must be received on or before September 10, 2001.

ADDRESSES: Copies of the draft revised performance standards may be found on the Federal Election Commission's web site at www.fec.gov/elections.html, or may be requested by contacting the Office of Election Administration, Federal Election Commission, 999 E Street, NW., Washington, DC 20463. They may also be picked up at the Office of Election Administration, 800 N. Capital St. NW., Washington, DC, Suite 600. All comments should be addressed to Ms. Penelope Bonsall, Director, Office of Election Administration, and must be submitted in either written or electronic form. Written comments should be sent to the Office of Election Administration, Federal Election Commission, 999 E Street, NW., Washington, DC 20463. Faxed comments should be sent to (202) 219-8500, with printed copy follow-up to ensure legibility. Electronic mail comments should be sent to VSS@fec.gov. See the Supplementary Information that follows for file formats and other information about filing comments electronically.

FOR FURTHER INFORMATION CONTACT: Ms. Penelope Bonsall, Director, Office of Election Administration, 999 E Street, NW., Washington, DC 20463; Telephone: (202) 694-1095; Toll Free (800) 424-9530, extension 1095.

SUPPLEMENTARY INFORMATION: The FEC issued the first national voluntary voting system standards in response to various States' requests for assistance, after a number of voting system failures in the field. The FEC's Office of Election Administration undertook this activity pursuant to its responsibilities under 2 U.S.C. 438(a)(10), which requires the FEC to “serve as a national clearinghouse for the compilation of information and review of procedures with respect to the administration of Federal elections.”

The FEC began developing the first performance standards and test criteria for computer based voting systems in 1984, subsequent to two studies. The first study was the 1975 publication entitled “Effective Use of Computing Technology in Vote Tallying”, which was prepared jointly by the National Bureau of Standards (now the National Institute of Standards and Technology) and the FEC's predecessor at the General Accounting Office. This report concluded that one of the primary causes for computer-related election problems was a lack of appropriate technical skills at the State and local level for developing or implementing complex written standards, against which voting system hardware and software could be tested. The second report was a Congressionally mandated feasibility study published in 1982 and entitled “Voting System Standards: A Report to the Congress on the Development of Voluntary Engineering and Procedural Performance Standards for Voting Systems”. This document, produced by the FEC in cooperation with the National Bureau of Standards, cited a substantial number of technical and management problems that affected the integrity of the vote counting process. It also detailed the need and desirability of having a federal agency develop voluntary national technical standards and test criteria for voting systems other than mechanical lever or hand-counted paper ballot systems.

The original Standards took six years to develop. A series of public meetings were held. State and local election officials, representatives of voting system vendors, technical consultants, and others reviewed drafts of the proposed criteria. A notice soliciting comments from the public was published in the Federal Register on August 8, 1989. 54 FR 32479. The FEC reviewed all responses to the notice and incorporated corrections and suitable suggestions. Notice of the final Standards was published in the Federal Register on February 5, 1990. 55 FR 3764.

Thirty-seven States now report that they have implemented, or intend soon to adopt, the Standards. While most States apply the Standards only to newly acquired voting systems, States may also consider using the Standards to test existing voting systems. The National Association of State Election Directors (“NASED”) oversees the national testing of voting systems by independent test authorities using the Standards. The Election Center, a private membership association of election officials, serves as Secretariat for the NASED testing program.

Today, election officials are better assured that the voting systems they procure will work accurately and reliably. Voting system failures are on the decline, and now tend to involve pre-standard equipment, untested equipment configurations, or the mismanagement of tested equipment.

Nevertheless, after ten years of use, the Standards need revision. The technologies used to develop voting systems and way the voting process is administered had evolved and continue to evolve. The needs of the disabled community have been widely recognized. In addition, voting system vendors, NASED independent test authorities, States, and local jurisdictions have gained much experience in using the Standards and have identified areas for refinement.

The FEC initiated this particular revision process in the fall of 1999, after conducting an analysis to pinpoint where revisions were needed and to estimate associated costs. The production of draft revised Standards involved technical consultants, representatives of the two NASED certified independent test authorities, State and local election officials who are members of the NASED committee that oversees the testing process, and the Executive Director of The Election Center. Voting system vendors were also given the opportunity to comment on problems with the current Standards, the focus of and framework for the revised Standards, and an early draft of the functional requirements for the revised Standards.

The proposed revised Standards separate the original performance standards and test criteria, which had been presented together as one large volume, into two volumes to better suit the needs of different user groups. “Volume I: Voting System Performance Standards” provides an introduction to the Standards, describes the functional and technical requirements for voting systems, and includes a summary of the testing process. “Volume II: Voting System Test Standards” will provide details of the test process in terms of information to be submitted by the vendor, testing conducted by the independent test authorities, and criteria for passing the individual tests of the test process.

To improve readability, the revised performance standards also have been reorganized to clearly identify individual elements as either mandatory requirements or recommended guidelines or practices. They focus on voting system functionality, identifying requirements common to all types of voting systems and those that apply only to subclasses of voting systems (e.g.; paper based versus all electronic, central count versus precinct count).

The proposed performance standards provide expanded coverage of certain automated election management functions that interface with vote recording and tabulating systems; both on the front end during the preparation of ballots and the election-specific coding of software and on the back end during vote consolidation and reporting. They augment coverage of system requirements for feedback to the voter, audit trails, telecommunications, security, and the documentation of vendor quality assurance practices. They also provide new coverage for Internet voting, accessibility for disabled voters, and documentation of the vendor's process for managing voting system development and changes. The Commission encourages detailed comments on these new and expanded areas.

The proposed performance standards no longer describe fundamental professional systems development processes. They do not address election practices and procedures that are not under the control of the vendor, although vendors will be required to document actions, materials, and environmental considerations necessary to properly secure, use, transport, and maintain their specific voting systems. This version of the performance standards also does not address many specific human interface considerations, except for the accessibility of information technology components to the disabled and some general provisions for ballot presentation, feedback to the voter, and warning signals. The FEC has requested funds to enhance existing documents and develop new ones to address these matters.

The proposed performance standards also do not cover election administration databases and information technology that are not involved in ballot preparation, election coding of software, vote recording and tabulation, or vote consolidation and reporting (e.g.; databases used to manage voter registration, absentee balloting requests, precinct boundaries, poll worker remuneration, etc.). Further discussion of the reasons for these exclusions is contained in the Overview document that accompanies the proposed Standards.

The FEC is now making the draft “Volume I: Voting System Performance Standards” available for comment. This fall, the Commission plans to publish a notice in the Federal Register to announce when the draft “Volume II: Voting System Test Standards” is available for comment. The Commission will evaluate comments received on both volumes to determine what additional refinements are warranted. Following this process, a notice will be published in the Federal Register announcing the availability of the final documents. Assuming a continuous funding stream, the Commission anticipates a final issuance date no later than April 2002 and will recommend to the States, voting system vendors, and independent test authorities an effective date of July 1, 2002.

Electronic Access and Filing Addresses

Comments may be submitted by sending electronic messages to VSS@fec.gov. The FEC also accepts comments in electronic mail attachments and on disk that are in Word 5.0, or earlier version, file format. Commenters should avoid the use of special characters or encryption. When possible, commenters should reference the section to which a particular comment relates. Comments on the need to address issues not covered by this draft should identify the scope of what needs to be addressed as specifically as possible.

Persons sending comments by electronic mail must include their full name, electronic mail address and postal service address within the text of their comments. Comments that do not contain the full name, electronic mail address and postal service address of the commenter will not be considered.

Dated: July 3, 2001.
Danny L. McDonald,
Chairman, Federal Election Commission.

[FR Doc. 01-17110 Filed 7-9-01; 8:45 am]

BILLING CODE 6715-01-P